DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by November 24, 2004. A copy of the information collection plans may be obtained by calling the SAMHSA Reports Clearance Officer on (240) 276-1243.

Title: SAMHSA Suicide Prevention Hotline Networking Form.

OMB Number: 0930-New.

Frequency: One-time-only.

Affected public: Non-Profit Institutions.

Section 520A of the Public Health Service (PHS) Act [42 U.S.C. 290bb-32] authorizes the Administrator of the Substance Abuse and Mental Health Services Administration (SAMHSA) to establish the Suicide Prevention Hotline program as part of its mandate to address priority mental health needs of regional and national significance. Each year, beginning with the 2001 appropriations bill, Congress has directed that funding be provided for the Suicide Prevention Hotline program, through which SAMHSA has established the National Suicide Prevention Hotline Network.

The National Suicide Prevention Hotline Network consists of a single toll-free telephone number that routes calls from anywhere in the United States to a network of local crisis centers that can link callers to local emergency, mental health, and social service resources. Behind the scenes is a computerized “routing system,” which matches each incoming call to a complex array of crisis center characteristics, and rapidly links the caller to the nearest available, appropriate crisis center.

Technological and administrative changes necessitate that a new toll-free telephone number and a new, more sophisticated routing system be operational by January 1, 2005. This entails collecting administrative information from each of the 144 crisis centers currently participating in the network (e.g., location, hours of operation, call capacity, non-English language capability) and programming the data into a new routing system to ensure that each caller is linked to the nearest and most appropriate crisis center. The form developed to secure this information requests only factual information that is essential to the design of the routing system.

The following table is the estimated hour burden:

Number of respondents | Responses/respondent | Burden/ response (hrs.) | Total burden hours
144 | 1 | .17 | 24.50

Emergency approval is being requested because SAMHSA does not want to risk the possibility of disrupting the functioning of the national suicide prevention hotline network, and the subsequent possibility that even one individual who tries calling a non-working hotline might ultimately take his/her own life.

Written comments and recommendations concerning the proposed information collection should be sent within two weeks of this notice to: John Kraemer, Human Resources and Housing Branch, Office of Management and Budget, New Executive Office Building, Room 10235, Washington, DC 20503; due to potential delays in OMB's receipt and processing of mail sent through the U.S. Postal Service, respondents are encouraged to submit comments by fax to: 202-395-6974.

Dated: November 4, 2004.
Patricia S. Bransford,
Acting Executive Officer, SAMHSA.

[FR Doc. 04-25028 Filed 11-9-04; 8:45 am]

BILLING CODE 4162-20-P